DEPARTMENT OF AGRICULTURE

Grain Inspection, Packers and Stockyards Administration

Designation for the Aberdeen, (SD), Decatur (IL), Hastings (NE), Fulton (IL), Missouri, and South Carolina Areas

AGENCY: Grain Inspection, Packers and Stockyards Administration, USDA.

ACTION: Notice.

SUMMARY: We are announcing designation of the following organizations to provide official services under the United States Grain Standards Act, as amended (USGSA): Aberdeen Grain Inspection, Inc. (Aberdeen); Decatur Grain Inspection, Inc. (Decatur); Hastings Grain Inspection, Inc. (Hastings); John R. McCrea Agency, Inc. (McCrea); Missouri Department of Agriculture (Missouri); and South Carolina Department of Agriculture (South Carolina).

DATES: Effective October 1, 2008.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the March 3, 2008, Federal Register (73 FR 11387), we requested applications for designation to provide official services in the geographic areas assigned to the official agencies named above. Applications were due by April 2, 2008.

Aberdeen, Decatur, Hastings, McCrea, Missouri, and South Carolina were the sole applicants for designation to provide official services in the entire area currently assigned to them, so GIPSA did not ask for additional comments on them.

We evaluated all available information regarding the designation criteria in section 7(f)(l) of USGSA (7 U.S.C. 79 (f)) and determined that Aberdeen, Decatur, Hastings, McCrea, Missouri, and South Carolina are able to provide official services in the geographic areas specified in the March 3, 2008, Federal Register, for which they applied. These designation actions to provide official services are effective October 1, 2008, and terminate September 30, 2011, for Aberdeen, Decatur, Hastings, McCrea, Missouri, and South Carolina. Interested persons may obtain official services by calling the telephone numbers listed below.

Official agency | Headquarters location and telephone | Designation start-end
Aberdeen | Aberdeen, SD, 605-225-8432; Additional Location: Mitchell, SD | 10/1/2008-9/30/2011.
Decatur | Decatur, IL, 217-429-2466 | 10/1/2008-9/30/2011.
Hastings | Hastings, NE, 402-462-4254; Additional Location: Grand Island, NE | 10/1/2008-9/30/2011.
McCrea | Fulton, IL, 815-589-9955 | 10/1/2008-9/30/2011.
Missouri | Jefferson City, MO, 573-751-5515; Additional Locations: Vandalia, Kansas City, St. Joseph, Marshall and New Madrid, MO | 10/1/2008-9/30/2011.
South Carolina | Columbia, SC, 843-296-7522 | 10/1/2008-9/30/2011.

Section 7(f)(1) of the USGSA, authorizes GIPSA's Administrator to designate a qualified applicant to provide official services in a specified area after determining that the applicant is better able than any other applicant to provide such official services (7 U.S.C. 79 (f)(1)).

Section 7(g)(1) of USGSA provides that designations of official agencies will terminate not later than three years and may be renewed according to the criteria and procedures prescribed in section 7(f) of USGSA.

Authority: 7 U.S.C. 71-87k.

James E. Link,
Administrator, Grain Inspection, Packers and Stockyards Administration.

[FR Doc. E8-19539 Filed 8-29-08; 8:45 am]

BILLING CODE 3410-KD-P